DEPARTMENT OF STATE

DEPARTMENT OF TRANSPORTATION

Maritime Administration

[Public Notice 4411]

Secretary of State's Advisory Committee on Private International Law: Study Group on International Transport Law: Meeting Notice

There will be a public meeting of a Study Group of the Secretary of State's Advisory Committee on Private International Law on Thursday, September 4, 2003, to consider the draft instrument on International Transport Law, under negotiation at the United Nations Commission on International Trade Law (UNCITRAL). The meeting will be held from 1:30 p.m. to 5 p.m. in the offices of Holland & Knight, Suite 100, 2099 Pennsylvania Avenue, NW., Washington, DC.

The purpose of the Study Group meeting is to assist the Departments of State and Transportation in preparing for the next session of the UNCITRAL Working Group on this draft instrument, to be held in Vienna, Austria from October 6, 2003 to October 17, 2003.

The draft text and the report of prior meetings of the UNCITRAL Working Group on this subject constitute the basic working documents of the UNCITRAL Working Group. These documents are available on UNCITRAL's Web site, http://www.uncitral.org. (The documents are listed under Working Group III (Transportation).)

The Study Group meeting is open to the public up to the capacity of the meeting room. Persons who wish to have their views considered are encouraged to submit written comments in advance of the meeting. Comments should refer to Docket number MARAD-2001-11135. Written comments may be submitted to the Docket Clerk, U.S. DOT Dockets, Room PL-401, Department of Transportation, 400 7th Street, SW., Washington, DC 20490-0001. You may also send comments electronically via the internet at http://dmses.dot.gov/submit/. All comments will become part of this docket and will be available for inspection and copying at the above address between 10 a.m. and 5 p.m., EST, Monday through Friday, except federal holidays. An electronic version of all documents entered into this docket is available on the internet at http//dms.dot.gov.

For further information, you may contact Mary Helen Carlson at 202-776-8420, or by e-mail at carlsonmh@ms.state.gov.

Dated: August 21, 2003.
Mary Helen Carlson,
Legal Adviser for Private International Law, Department of State.
Edmund T. Sommer, Jr.,
Chief, Division of General Law, International Law and Litigation, Office of the Chief Counsel, Maritime Administration, Department of Transportation.

[FR Doc. 03-22147 Filed 8-28-03; 8:45 am]

BILLING CODE 4710-08-P